DEPARTMENT OF AGRICULTURE

Food and Nutrition Service

Agency Information Collection Activities: Special Supplemental Nutrition Program for Women, Infants and Children (WIC); Food Delivery Portal (FDP)

AGENCY: Food and Nutrition Service, USDA.

ACTION: Notice.

SUMMARY: In accordance with the Paperwork Reduction Act of 1995, this notice invites the general public and other public agencies to comment on this proposed information collection. This collection is a revision of a currently approved collection to provide FNS and WIC State agencies with an ongoing/annual data set that can be used to assess State agencies' compliance with WIC vendor management requirements and estimate State agencies' progress in eliminating fraud, waste, and abuse.

DATES: Written comments must be received on or before April 29, 2024.

ADDRESSES: Comments may be submitted via email to the attention of FDP Help Desk at SM.fn.FDPHelp@usda.gov. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: Requests for additional information or copies of this information collection should be directed to Patricia Bailey, at Patricia.Bailey@usda.gov, mail to: 1320 Braddock Place, Alexandria, VA 22314, or phone (703) 305-2346.

SUPPLEMENTARY INFORMATION:

Comments are invited on: (a) Whether the proposed collection of information is necessary for the proper performance of the functions of the agency, including whether the information will have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Food Delivery Portal (FDP) Data Collection.

Form Number: None.

OMB Number: 0584-0401.

Expiration Date: December 31, 2024.

Type of Request: Revision of a Currently Approved Collection.

Abstract: Each year, WIC State agencies administering the Special Supplemental Nutrition Program for Women, Infants, and Children (WIC) are required by 7 CFR 246.12(j)(5) to submit to FNS an annual summary of the results of their vendor monitoring efforts in order to provide Congress, senior FNS officials, as well as the public, assurance that every reasonable effort is being made to ensure integrity in the WIC Program. The number of WIC State agencies in fiscal year 2023 is 89. This includes 50 geographic State agencies, 33 State agencies operated by Indian Tribal Organizations, the District of Columbia, Puerto Rico, Guam, American Samoa, the Commonwealth of the Northern Mariana Islands, and the Virgin Islands. All WIC State agencies use the web-based system called Food Delivery Portal (FDP).

FDP is a robust data collection system which aligns with current security protocols and compliance guidance, supports data storage and web components, ensures cost effectiveness, allows for data-driven decision-making, has enhanced FNS reporting capabilities, reduces grantee burden through automated calculations and consolidated reporting, and adds data validation features to reduce reporting errors.

Estimate of Burden: Public reporting burden for this collection of information is based on the fields in the Food Delivery Portal, and the total number of vendor records estimated to be entered by WIC State agencies. It includes the time for reviewing instructions, searching existing data sources, gathering and maintaining the data needed, and completing and reviewing the collection of information.

Affected Public: State, local, and Tribal government. Respondent groups identified include State, Tribal, and WIC agencies in the District of Columbia and in U.S. Territories.

Estimated Number of Respondents: The total estimated number of respondents is 89.

Estimated Number of Responses per Respondent: The estimated number of responses per respondent is 5.

Estimated Total Annual Responses: 475 responses.

Estimated Time per Response: The estimated time of response varies from 4 minutes (.068 hours) to 10 hours depending on respondent group, as shown in the table below, with an average estimated time of 2.39 hours for all participants.

Estimated Total Annual Burden on Respondents: 1,135 hours. See the table below for estimated total annual burden for each type of respondent.

Table 1—Estimate of Burden Hours
Respondent category | Type of respondents (optional) | Instruments | Form | Number of respondents | Frequency of response | Total annual responses | Hours per response | Annual burden (hours) | Previous submission total annualized hours of respondent burden | Difference due to program changes | Difference due to adjustments | Total difference
(A) 3 Categories:—individual/household—state/local/tribal government—business (profit, non-profit, or farm) | (B) Describe the respondent (optional) | (C) Description or name of instrument. For rules, this will be the CFR citation. | (D) Form number, where applicable | (E) Number of unique persons estimated to respond | (F) Number of times per year the respondent will respond to each instrument | (G) Total responses per year for each instrument (rounded to nearest whole) | (H) Average time (in hours) it will take each person to respond to the instrument. To convert minutes to hours, divide minutes by 60. | (I) (= G × H) Average total time (in hours) it will take all respondents to respond. | (J) Imported from previous burden table | (K) Differences due to program changes including the transition from TIP to FDP, a new burden, a new process that reduces the burden hour, etc. | (L) Differences due to a change in numbers such as the number of vendors, time to enter information into the record, increasing/decreasing, etc. | (M)
State Government | State Program Staff | Manual entry of a new record | FDP | 23 | 0.17 | 4 | 0.19 | 0.8 | 4.3 |  | −3.54 | −3.54
State Government | State Program Staff | Manual update existing record | FDP | 23 | 9.87 | 227 | 0.068 | 15.4 | 35.7 |  | −20.26 | −20.26
State Government | State Program Staff | Data Upload | FDP | 66 | 1 | 66 | 0.1 | 6.6 | 36.5 | −29.6 |  | −29.9
State Government | State Program Staff | Data Preparation for this ICR |  | 89 | 1 | 89 | 10.0 | 890.0 | 890.0 |  |  |
State Government | State Program Staff | SA System Feedback |  | 89 | 1 | 89 | 2.5 | 222.5 | 222.5 |  |  |
Total |  |  |  | 89 | 5.34 | 475 | 2.39 | 1,135.3 | 1,189 | −29.63 | −23.80 | −53.70

Tameka Owens,
Assistant Administrator, Food and Nutrition Service.

[FR Doc. 2024-04064 Filed 2-27-24; 8:45 am]

BILLING CODE 3410-30-P